DEPARTMENT OF HOMELAND SECURITY

U.S. Customs and Border Protection

U.S. Customs and Border Protection 2015 West Coast Trade Symposium: “Advancing Trade Through Partnership and Enforcement”

AGENCY: U.S. Customs and Border Protection, Department of Homeland Security (DHS).

ACTION: Notice of Trade Symposium.

SUMMARY: This document announces that U.S. Customs and Border Protection (CBP) will convene the West Coast Trade Symposium in Tacoma, Washington on Wednesday, May 27, 2015. The West Coast Trade Symposium will feature panel discussions involving agency personnel, members of the trade community, and other government agencies, on the agency's role in international trade initiatives and programs. This marks CBP's fourteenth year convening the Trade Symposium. Members of the international trade and transportation communities and other interested parties are encouraged to attend.

DATES: Wednesday, May 27, 2015, (opening remarks and general sessions, 8:00 a.m.-5:30 p.m.).

ADDRESSES: The CBP 2015 West Coast Trade Symposium will be held at the Hotel Murano located at 1320 Broadway Plaza, Tacoma, Washington 98402.

FOR FURTHER INFORMATION CONTACT: The Office of Trade Relations at (202) 344-1440, or at tradeevents@dhs.gov. To obtain the latest information on the Trade Symposium and to register online, visit the CBP Web site at http://www.cbp.gov/trade/stakeholder-engagement/trade-symposium. Requests for special needs should be sent to the Office of Trade Relations at tradeevents@dhs.gov.

SUPPLEMENTARY INFORMATION: CBP will be holding two Trade Symposiums in 2015; one in Tacoma, Washington and one on the East Coast in the Washington, DC area later this year. Notice of and information regarding the 2015 East Coast Trade Symposium will be published at a later date. This document announces that CBP will convene the 2015 West Coast Trade Symposium on Wednesday, May 27, 2015. The theme for the 2015 West Coast Trade Symposium will be “Advancing Trade Through Partnership and Enforcement.” The format of the West Coast Trade Symposium will be held with general sessions. Discussions will be held regarding CBP's role in international trade initiatives and partnerships.

The agenda for the 2015 West Coast Trade Symposium and the keynote speakers will be announced at a later date on the CBP Web site (http://www.cbp.gov). Registration is now open. The registration fee is $81.00 per person. Interested parties are requested to register early, as space is limited. All registrations must be made online at the CBP Web site (http://www.cbp.gov/trade/stakeholder-engagement/trade-symposium) and will be confirmed with payment by credit card only.

Due to the overwhelming interest to attend past symposiums, each company is requested to limit its company's registrations to no more than three participants in order to afford equal representation from all members of the international trade community. If a company exceeds the limitation, any additional names submitted for registration will automatically be placed on a waiting list.

Hotel accommodations will be announced at a later date on the CBP Web site (http://www.cbp.gov).

Dated: April 28, 2015.
Maria Luisa Boyce,
Senior Advisor for Private Sector Engagement, Executive Director, Office of Trade Relations, Office of the Commissioner, U.S. Customs and Border Protection.

[FR Doc. 2015-10256 Filed 4-30-15; 8:45 am]

BILLING CODE 9111-14-P